DEPARTMENT OF ENERGY

Federal Energy Regulatory Commission

[Docket Nos. EC06-106-000, et al.]

Southeast Chicago Energy Project, LLC. et al.; Electric Rate and Corporate Filings

April 19, 2006.

The following filings have been made with the Commission. The filings are listed in ascending order within each docket classification.

1. Southeast Chicago Energy Project, LLC; Exelon Generation Company, LLC; Peoples Calumet, LLC

[Docket No. EC06-106-000]

Take notice on April 6, 2006, Southeast Chicago Energy Project, LLC, Exelon Generation Company, LLC and Peoples Calumet, LLC filed an application, pursuant to section 203 of the Federal Power Act, for authorization to transfer membership interests in a public utility.

Comment Date: 5 p.m. eastern time on April 28, 2006.

2. Orange Power Holdings LP, Mulberry Power Holdings LP, O&M Star Generation LLC

[Docket No. EC06-107-000]

Take notice on April 12, 2006, Orange Power Holdings LP, Mulberry Power Holdings LP and O&M Star Generation LLC filed an application, pursuant to section 203 of the Federal Power Act, for order authorizing transfer of control of jurisdictional facilities.

Comment Date: 5 p.m. eastern time on May 3, 2006.

3. Kansas Gas and Electric Company, Elk River Windfarm, LLC

[Docket No. EC06-108-000]

Take notice on April 11, 2006, Kansas Gas and Electric Company and Elk River Windfarm, LLC filed a joint application, pursuant to section 203 of the Federal Power Act, for authorization for the disposition of jurisdictional facilities.

Comment Date: 5 p.m. eastern time on May 2, 2006.

4. CES Energy, Inc.; J-POWER Frontier GP, LLC; J-POWER Frontier, L.P.; J-POWER USA Investment Co., Ltd.; Tenaska Energy, Inc.; Tenaska Energy Holding, LLC; Tenaska Frontier Partners, Ltd.

[Docket No. EC06-109-000]

Take notice on April 6, 2006, CES Energy, Inc., J-POWER Frontier GP, LLC, J-POWER Frontier, L.P., J-POWER USA Investment Co., Ltd., Tenaska Energy, Inc. Tenaska Energy Holding, LLC, and Tenaska Frontier Partners, Ltd. filed a joint application, pursuant to the section 203 of the Federal Power Act, for authorization to transfer jurisdictional facilities.

Comment Date: 5 p.m. eastern time on April 28, 2006.

5. Spindle Hill Energy LLC

[Docket No. EG06-45-000]

Take notice that on April 7, 2006, Spindle Hill Energy LLC submitted a notice of self-certification of exempt wholesale generator status pursuant to sections 366.1 and 366.7 of the Commission's regulations.

Comment Date: 5 p.m. eastern time on April 28, 2006.

Standard Paragraph

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E6-6240 Filed 4-25-06; 8:45 am]

BILLING CODE 6717-01-P